DEPARTMENT OF TRANSPORTATION

Federal Aviation Administration

Eighty-Sixth SC-147 Traffic Collision & Avoidance Committee Plenary

AGENCY: Federal Aviation Administration (FAA), U.S. Department of Transportation (DOT).

ACTION: Eighty-sixth SC-147 Traffic Collision & Avoidance Committee Plenary.

SUMMARY: The FAA is issuing this notice to advise the public of a meeting of Eighty-Sixth SC-147 Traffic Collision & Avoidance Committee Plenary.

DATES: The meeting will be held September 26-29, 2016 09:00 a.m.—04:30 p.m.

ADDRESSES: The meeting will be held at: RTCA Headquarters, 1150 18th Street NW., Suite 910, Washington, DC 20036.

FOR FURTHER INFORMATION CONTACT: Al Secen at asecen@rtca.org or 202-330-0647, or The RTCA Secretariat, 1150 18th Street, NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Eighty-Sixth SC-147 Traffic Collision & Avoidance Committee Plenary. The agenda will include the following:

Monday September 26

Combined Surveillance Group Leadership Meeting

Working group breakout meetings

Tuesday September 27

Working group breakout meetings

Wednesday September 28

Working group breakout meetings

Thursday September 29

Plenary Meeting and Agenda

1. Opening Plenary Session

a. Chairmen's Opening Remarks/Introductions

b. Approval of Minutes from 85th meeting of SC-147

c. Approval of Agenda

2. WG75 Status/European Activities

3. Working Group Reports

a. Report from Surveillance and Tracking Working Group (SWG)

b. Report from Threat Working Group TWG

c. Report from Safety Sub-group

4. Working Group Reports Continued

a. Report from Combined Surveillance Group (CSG)

b. Report from Xo Sub-group

c. Report from Xu Sub-group

d. Report from Operations Working Group (OWG)

5. MOPS Schedule Review

Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on August 25, 2016.
Mohannad Dawoud,
Management & Program Analyst, Partnership Contracts Branch, ANG-A17, NextGen, Procurement Services Division, Federal Aviation Administration.

[FR Doc. 2016-20909 Filed 8-30-16; 8:45 am]

BILLING CODE 4910-13-P